DEPARTMENT OF THE TREASURY

Departmental Offices; Proposed Collections; Comment Requests

ACTION: Notice and request for comments.

SUMMARY: The Department of the Treasury, as part of its continuing effort to reduce paperwork burdens, invites the general public and other Federal agencies to comment on revisions of an information collection that are proposed for approval by the Office of Management and Budget. The Office of Program Services within the Department of the Treasury is soliciting comments concerning Treasury International Capital Form BQ-2, Part 1: Report of Foreign Currency Liabilities to, and Claims on, Foreigners of Depository Institutions, Brokers, Dealers, and Their Domestic Customers; Part 2: Report of Customers' Foreign Currency Liabilities to Foreigners.

DATES: Written comments should be received on or before June 18, 2002, to be assured of consideration.

ADDRESSES: Direct all written comments to Dwight Wolkow, International Portfolio Investment Data Systems, Department of the Treasury, Room 5457 MT, 1500 Pennsylvania Avenue NW, Washington DC 20220. In view of delays in mail delivery due to recent events, please also notify Mr. Wolkow by e-mail (dwight.wolkow@do.treas.gov), FAX (202-622-7448) or telephone (202-622-1276).

FOR FURTHER INFORMATION CONTACT: Copies of the proposed forms and instructions are available on the Treasury's TIC Forms webpage, http://www.treas.gov/tic/forms.htm. Requests for additional information should be directed to Mr. Wolkow.

SUPPLEMENTARY INFORMATION:

Titles: Treasury International Capital Form BQ-2, Part 1: Report of Foreign Currency Liabilities to, and Claims on, Foreigners of Depository Institutions, Brokers, Dealers, and Their Domestic Customers; Part 2: Report of Customers' Foreign Currency Liabilities to Foreigners.

OMB Control Number: 1505-0020.

Abstract: Form BQ-2 is part of the Treasury International Capital (TIC) reporting system, which is required by law (22 U.S.C. 286f; 22 U.S.C. 3103; E.O. 10033; 31 CFR 128) and is designed to collect timely information on international portfolio capital movements. Form BQ-2 is a quarterly report that covers the liabilities to and claims on foreigners of banks, other depository institutions, brokers and dealers, and their customers' claims and liabilities with foreigners, where all claims and liabilities are denominated in foreign currencies. This information is necessary for compiling the U.S. balance of payments accounts, for calculating the U.S. international investment position, and for formulating U.S. international financial and monetary policies.

Current Actions: (a) Bank Holding Companies and Financial Holding Companies (BHCs/FHCs) will each consolidate the BHC/FHC and all subsidiaries, OTHER THAN banking or broker or dealer subsidiaries, and file TIC Form CQ-1 (banks and brokers and dealers will continue to file TIC-B series reports). This treatment is designed to reduce reporting burdens since the TIC C reports are less detailed and are filed only quarterly. (b) Depository institutions, brokers and dealers will report most cross-border positions with affiliated foreigners (including affiliates of parent organizations) exclusive of positions in the form of long-term securities or derivative contracts. (c) All reporters will have to report brokerage balances, according to a revised description of brokerage balances. (d) To eliminate double counting, all negotiable liabilities (certificates of deposit of any maturity and other short-term negotiable securities) are to be reported as “customers' ” items on Form BQ-2 and excluded from the reporter's own liabilities, even if the “customer” is the reporter. (e) More claims and liabilities of the domestic customers of depository institutions, brokers and dealers will be reportable. The title of the BQ-2 report is changed from “Custody” claims and liabilities to “Customers' ” claims and liabilities to reflect the fact that items other than traditional “custody” items are included. Non-custody items will include offshore sweep agreements, loans to U.S. residents held at managed foreign offices, loans of foreigners to U.S. residents serviced by the reporter, and syndicated loans sold overseas for which the reporter was the lead in the syndicate. (f) The period of time a reporter has to submit reports once the exemption level is exceeded has been changed to the remainder of the current calendar year. (g) In Form BQ-2, a new column will be added for separate reporting of non-negotiable deposits held by foreigners. (h) In Form BQ-2, two memorandum cells will be added for negotiable CDs of foreigners. (i) In Form BQ-2, a memorandum cell will be added for nonnegotiable short-term securities held by foreigners. (j) In Form BQ-2, two new memorandum cells will be added for short-term securities of foreigners. (k) In Form BQ-2, a memorandum row for repurchase agreements and resale agreements will be added. (l) These changes will be effective as of February 28, 2003.

Type of Review: Revision of a currently approved collection.

Affected Public: Business or other for-profit organizations.

Form BQ-2 (1505-0020)

Estimated Number of Respondents: 120.

Estimated Average Time per Respondent: Six and one/quarter (6.25) hours per respondent per filing. This average time varies from 10 hours for the approximately 30 major reporters to 5 hours for the other reporters.

Estimated Total Annual Burden Hours: 3,000 hours, based on four reporting periods per year.

Request for Comments: Comments submitted in response to this notice will be summarized and/or included in the requests for OMB approval. All comments will become a matter of public record. The public is invited to submit written comments concerning: whether Form BQ-2 is necessary for the proper performance of the functions of the Office, including whether the information collected has practical uses; the accuracy of the above burden estimates; ways to enhance the quality, usefulness, and clarity of the information to be collected; ways to minimize the reporting and/or recordkeeping burdens on respondents, including the use of information technologies to automate the collection of the data; and estimates of capital or start-up costs of operation, maintenance, and purchases of services to provide information.

Dwight Wolkow,
Administrator, International Portfolio Investment Data Systems.

[FR Doc. 02-9604 Filed 4-18-02; 8:45 am]

BILLING CODE 4810-25-P